DEPARTMENT OF TRANSPORTATION

Federal Aviation Administration

14 CFR Part 97

[Docket No. 30381; Amdt. No. 3069 ]

Standard Instrument Approach Procedures; Miscellaneous Amendments

AGENCY: Federal Aviation Administration (FAA), DOT.

ACTION: Final rule.

SUMMARY: This amendment establishes, amends, suspends, or revokes Standard Instrument Approach Procedures (SIAPs) for operations at certain airports. These regulatory actions are needed because of the adoption of new or revised criteria, or because of changes occurring in the National Airspace System, such as the commissioning of new navigational facilities, addition of new obstacles, or changes in air traffic requirements. These changes are designed to provide safe and efficient use of the navigable airspace and to promote safe flight operations under instrument flight rules at the affected airports.

DATES: This rule is effective August 13, 2003. The compliance date for each SIAP is specified in the amendatory provisions.

The incorporation by reference of certain publications listed in the regulations is approved by the Director of the Federal Register as of August 13, 2003.

ADDRESSES: Availability of matters incorporated by reference in the amendment is as follows:

For Examination—

1. FAA Rules Docket, FAA Headquarters Building, 800 Independence Avenue, SW., Washington, DC 20591;

2. The FAA Regional Office of the region in which the affected airport is located;

3. The Flight Inspection Area Office which originated the SIAP; or,

4. The Office of Federal Register, 800 North Capitol Street, NW., Suite 700, Washington, DC.

For Purchase—Individual SIAP copies may be obtained from:

1. FAA Public Inquiry Center (APA-200), FAA Headquarters Building, 800 Independence Avenue, SW., Washington, DC 20591; or

2. The FAA Regional Office of the region in which the affected airport is located.

By Subscription—Copies of all SIAPs, mailed once every 2 weeks, are for sale by the Superintendent of Documents, U.S. Government Printing Office, Washington, DC 20402.

FOR FURTHER INFORMATION CONTACT: Donald P. Pate, Flight Procedure Standards Branch (AMCAFS-420), Flight Technologies and Programs Division, Flight Standards Service, Federal Aviation Administration, Mike Monroney Aeronautical Center, 6500 South MacArthur Blvd., Oklahoma City, OK 73169 (Mail Address: P.O. Box 25082 Oklahoma City, OK 73125) telephone: (405) 954-4164.

SUPPLEMENTARY INFORMATION: This amendment to part 97 of the Federal Aviation Regulations (14 CFR part 97) establishes, amends, suspends, or revokes Standard Instrument Approach Procedures (SIAPs). The complete regulatory description of each SIAP is contained in official FAA form documents which are incorporated by reference in this amendment under 5 U.S.C. 552(a), 1 CFR part 51, and § 97.20 of the Federal Aviation Regulations (FAR). The applicable FAA Forms are identified as FAA Forms 8260-3, 8260-4, and 8260-5. Materials incorporated by reference are available for examination or purchase as stated above.

The large number of SIAPs, their complex nature, and the need for a special format make their verbatim publication in the Federal Register expensive and impractical. Further, airmen do not use the regulatory text of the SIAPs, but refer to their graphic depiction on charts printed by publishers of aeronautical materials. Thus, the advantages of incorporation by reference are realized and publication of the complete description of each SIAP contained in FAA form documents is unnecessary. The provisions of this amendment state the affected CFR (and FAR) sections, with the types and effective dates of the SIAPs. This amendment also identifies the airport, its location, the procedure identification and the amendment number.

The Rule

This amendment to part 97 is effective upon publication of each separate SIAP as contained in the transmittal. Some SIAP amendments may have been previously issued by the FAA in a National Flight Data Center (NFDC) Notice to Airmen (NOTAM) as an emergency action of immediate flight safety relating directly to published aeronautical charts. The circumstances which created the need for some SIAP amendments may require making them effective in less than 30 days. For the remaining SIAPs, an effective date at least 30 days after publication is provided.

Further, the SIAPs contained in this amendment are based on the criteria contained in the U.S. Standard for Terminal Instrument Procedures (TERPS). In developing these SIAPs, the TERPS criteria were applied to the conditions existing or anticipated at the affected airports. Because of the close and immediate relationship between these SIAPs and safety in air commerce, I find that notice and public procedure before adopting these SIAPs are impracticable and contrary to the public interest and, where applicable, that good cause exists for making some SIAPs effective in less than 30 days.

Conclusion

The FAA has determined that this regulation only involves an established body of technical regulations for which frequent and routine amendments are necessary to keep them operationally current. It, therefore—(1) is not a “significant regulatory action” under Executive Order 12866; (2) is not a “significant rule” under DOT Regulatory Policies and Procedures (44 FR 11034; February 26, 1979); and (3) does not warrant preparation of a regulatory evaluation as the anticipated impact is so minimal. For the same reason, the FAA certifies that this amendment will not have a significant economic impact on a substantial number of small entities under the criteria of the Regulatory Flexibility Act.

List of Subjects in 14 CFR Part 97

Air Traffic Control, Airports, Incorporation by reference, and Navigation (Air).

Issued in Washington, DC on August 1, 2003.
James J. Ballough,
Director, Flight Standards Service.

Adoption of the Amendment

Accordingly, pursuant to the authority delegated to me, part 97 of the Federal Aviation Regulations (14 CFR part 97) is amended by establishing, amending, suspending, or revoking Standard Instrument Approach Procedures, effective at 0901 UTC on the dates specified, as follows:

PART 97—STANDARD INSTRUMENT APPROACH PROCEDURES

1. The Authority citation for Part 97 continues to read as follows:

Authority: 49 U.S.C. 106(g), 40103, 40106, 40113, 40114, 40120, 44502, 44514, 44701, 44719, 44721-44722.

2. Part 97 is amended to read as follows:

§§ 97.23, 97.25, 97.27, 97.29, 97.31, 97.33, 97.35 [Amended]

By amending: § 97.23 VOR, VOR/DME, VOR or TACAN, and VOR/DME or TACAN; § 97.25 LOC, LOC/DME, LDA, LDA/DME, SDF, SDF/DME; § 97.27 NDB, NDB/DME; § 97.29 ILS, ILS/DME, ISMLS, MLS, MLS/DME, MLS/RNAV; § 97.31 RADAR SIAPs; § 97.33 RNAV SIAPs; and § 97.35 COPTER SIAPs, identified as follows:

* * * Effective September 4, 2003

Meeker, CO, Meeker, VOR/DME RNAV OR GPS RWY 3, Orig, CANCELLED

Meeker, CO, Meeker, VOR-A, Amdt 1

Meeker, CO, Meeker, RNAV (GPS)-B, Orig

Meeker, CO, Meeker, RNAV (GPS) RWY 3, Orig

Presque Isle, ME, Northern Maine Regional Airport at Presque Isle, RNAV (GPS) RWY 28, Orig

Westhampton Beach, NY, Francis S. Gabreski, RNAV (GPS) RWY 6, Orig

Westhampton Beach, NY, Francis S. Gabreski, RNAV (GPS) RWY 24, Orig

Westhampton Beach, NY, Francis S. Gabreski, NDB RWY 24, Amdt 3D

Oklahoma City, OK, Will Rogers World, RNAV (GPS) RWY 17R, Amdt 1

Oklahoma City, OK, Will Rogers World, RNAV (GPS) RWY 35L, Amdt 1

Oshkosh, WI, Wittman Regional, RNAV (GPS) RWY 36, Amdt 1

* * * Effective October 2, 2003

Old Town, ME, Dewitt Field Old Town Muni, RADAR-1, Amdt 2, CANCELLED

Granbury, TX, Granbury Muni, VOR/DME RWY 14, Amdt 1

* * * Effective October 30, 2003

Willimantic, CT, Windham, VOR-A, Amdt 9

Willimantic, CT, Windham, RNAV (GPS) RWY 9, Orig

Willimantic, CT, Windham, RNAV (GPS) RWY 27, Orig

Willimantic, CT, Windham, GPS RWY 9, Orig, CANCELLED

Charlotte, NC, Charlotte/Douglas Intl, VOR/DME RWY 23, Amdt 1, CANCELLED

Charlotte, NC, Charlotte/Douglas Intl, VOR/DME RWY 18L, Amdt 6A, CANCELLED

Charlotte, NC, Charlotte/Douglas Intl, NDB RWY 23, Amdt 7, CANCELLED

Corvallis, OR, Corvallis Muni, VOR-A, Amdt 10

Van Horn, TX, Culberson County, NDB RWY 21, Amdt 2

Van Horn, TX, Culberson County, RNAV (GPS) RWY 21, Orig

Rock Springs, WY, Rock Springs-Sweetwater County, VOR-B, Amdt 4A

Rock Springs, WY, Rock Springs-Sweetwater County, NDB-C, Amdt 2A

Rock Springs, WY, Rock Springs-Sweetwater County, ILS OR LOC/DME RWY 27, Orig

Rock Springs, WY, Rock Springs-Sweetwater County, ILS/DME RWY 27, Amdt 5A, CANCELLED

Rock Springs, WY, Rock Springs-Sweetwater County, GPS RWY 27, Orig, CANCELLED

Rock Springs, WY, Rock Springs-Sweetwater County, RNAV (GPS) Z RWY 27, Orig

Rock Springs, WY, Rock Springs-Sweetwater County, RNAV (GPS) Y RWY 27, Orig

The FAA published an Amendment in Docket No. 30378, Amdt No. 3067 to Part 97 of the Federal Aviation Regulations (Vol 68 FR No. 144, Page 44205; dated July 28, 2003) under Section 97.33 effective 04 September 2003, which is hereby amended as follows:

Change the Following Eff Date to 30 October 2003 for the Following Procedures

Rock Springs, WY, Rock Springs-Sweetwater County, VOR-B, Amdt 4A

Rock Springs, WY, Rock Springs-Sweetwater County, NDB-C, Amdt 2A

Rock Springs, WY, Rock Springs-Sweetwater County, ILS OR LOC/DME RWY 27, Orig

Rock Springs, WY, Rock Springs-Sweetwater County, ILS/DME RWY 27, Amdt 5A, CANCELLED

Rock Springs, WY, Rock Springs-Sweetwater County, GPS RWY 27, Orig, CANCELLED

Rock Springs, WY, Rock Springs-Sweetwater County, RNAV (GPS) Z RWY 27, Orig

Rock Springs, WY, Rock Springs-Sweetwater County, RNAV (GPS) Y RWY 27, Orig

The FAA published an Amendment in Docket No. 30378, Amdt No. 3067 to Part 97 of the Federal Aviation Regulations (Vol 68, FR No. 144, Page 44204; dated July 28, 2003) under Section 97.33 effective 04 September 2003, which is hereby amended as follows:

Kamuela, HI, Waimea-Kohala, VOR/DME-A, Orig

Kamuela, HI, Waimea-Kohala, VOR/DME RWY 4, Orig

Kamuela, HI, Waimea-Kohala, RNAV (GPS) RWY 4, Orig

Kamuela, HI, Waimea-Kohala, RNAV (GPS) RWY 22, Orig

The FAA published the following procedures in Docket No. 30378; Amdt. No. 3067 to Part 97 of the Federal Aviation Regulations (Vol. 68, FR No. 144, Page 44204; dated Monday, July 28, 2003) under section 97.33 effective May 15, 2003 which are hereby rescinded:

Brookfield, MO, North Central Missouri Regional, RNAV (GPS) RWY 18, Orig

Brookfield, MO, North Central Missouri Regional, RNAV (GPS) RWY 36, Orig

[FR Doc. 03-20397 Filed 8-12-03; 8:45 am]

BILLING CODE 4910-13-P